DEPARTMENT OF STATE

[Public Notice: 6546]

2009 Revised Exchange Visitor Skills List

AGENCY: Department of State.

ACTION: Notice of Revised Exchange Visitor Skills List.

SUMMARY: The Exchange Visitor Skills List is a list of specialized knowledge and skills that are deemed necessary for the development of an exchange visitor's home country. It is used by Consular Officers to determine whether an exchange visitor applying for a J-visa is subject to Section 212(e) of the Immigration and Nationality Act, as amended.

DATES: The Exchange Visitor Skills List is effective on June 28, 2009.

FOR FURTHER INFORMATION CONTACT: Marcia Pryce, Deputy Chief, or Ann Kavalou, Waiver Review Officer; Waiver Review Division, SA-1, Room L 603, Visa Office, Bureau of Consular Affairs, Department of State, 2401 E Street, NW., Washington, DC 20522-0106. Telephone 202-663-2800.

SUPPLEMENTARY INFORMATION: Pursuant to the provisions of Section 212(e) of the Immigration and Nationality Act, as amended 8 U.S.C. 1182(e), and 22 CFR 41.63, the Secretary of State designated on April 25, 1972, and revised on February 10, 1978, a list of fields of specialized knowledge or skills (referred to as the Exchange Visitor Skills List) for countries which clearly required the services of exchange visitor participants engaged in one or more of such fields. Any alien who as a national or resident of one of those countries and obtained an exchange visitor visa and/or became a participant in an Exchange Visitor Program involving a designated field of specialized knowledge or skill after the effective date of those public notices was subject to the two-year foreign residence (home country physical presence) requirement of Section 212(e) of the Immigration and Nationality Act as provided by said section and 22 CFR 41.63. The first Exchange Visitor Skills List was published in 1972. New lists were published on June 12, 1984 and January 16, 1997. Exchange visitors who entered the United States prior to the effective date shall continue to be governed by the 1997 Exchange Visitor Skills List, as amended. The Exchange Visitor Skills List which follows incorporates all previous revisions and amendments still in effect, and has been developed by the Waiver Review Division, Visa Office, Bureau of Consular Affairs, after consultation with foreign governments and overseas posts.

The revised 2009 Exchange Visitor Skills List reads as follows:

Index to Codes

(01) AGRICULTURE, AGRICULTURE OPERATIONS, AND RELATED SCIENCES

(03) NATURAL RESOURCES AND CONSERVATION

(04) ARCHITECTURE AND RELATED SERVICES

(05) AREA, ETHNIC, CULTURAL, AND GENDER STUDIES

(09) COMMUNICATION, JOURNALISM, AND RELATED PROGRAMS

(10) COMMUNICATIONS TECHNOLOGIES, TECHNICIANS AND SUPPORT SERVICES

(11) COMPUTER AND INFORMATION SCIENCES AND SUPPORT SERVICES

(12) PERSONAL AND CULINARY SERVICES

(13) EDUCATION

(14) ENGINEERING

(15) ENGINEERING TECHNOLOGIES/TECHNICIANS

(16) FOREIGN LANGUAGES, LITERATURES, AND LINGUISTICS

(19) FAMILY AND CONSUMER SCIENCES/HUMAN SCIENCES

(21) TECHNOLOGY EDUCATION/INDUSTRIAL ARTS

(22) LEGAL PROFESSIONS AND STUDIES

(23) ENGLISH LANGUAGE AND LITERATURE/LETTERS

(24) LIBERAL ARTS AND SCIENCES, GENERAL STUDIES AND HUMANITIES

(25) LIBRARY SCIENCE

(26) BIOLOGICAL AND BIOMEDICAL SCIENCES

(27) MATHEMATICS AND STATISTICS

(29) MILITARY TECHNOLOGIES

(31) PARKS, RECREATION, LEISURE, AND FITNESS STUDIES

(38) PHILOSOPHY AND RELIGIOUS STUDIES

(39) THEOLOGY AND RELIGIOUS VOCATIONS

(40) PHYSICAL SCIENCES

(41) SCIENCE TECHNOLOGIES/TECHNICIANS

(42) PSYCHOLOGY

(43) SECURITY AND PROTECTIVE SERVICES

(44) PUBLIC ADMINISTRATION AND SOCIAL SERVICE PROFESSIONS

(45) SOCIAL SCIENCES

(46) CONSTRUCTION TRADES

(47) MECHANIC AND REPAIR TECHNOLOGIES/TECHNICIANS

(48) PRECISION PRODUCTION

(49) TRANSPORTATION AND MATERIALS MOVING

(50) VISUAL AND PERFORMING ARTS

(51) HEALTH PROFESSIONS AND RELATED CLINICAL SCIENCES

(52) BUSINESS, MANAGEMENT, MARKETING, AND RELATED SUPPORT SERVICES

(54) HISTORY

(60) MEDICAL RESIDENCY PROGRAMS

In groups that list a two-digit subject description with no four-digit subgroups following, the two-digit subject description is all-inclusive.

GROUP (1)

(01) Agriculture, Agriculture Operations, and Related Sciences

01.00 Agriculture, General

01.01 Agricultural Business and Management (including Production Operations and Mechanization)

01.06 Applied Horticulture/Horticulture

01.09 Animal Sciences (including Agricultural Animal Breeding; Animal Health and Nutrition; Dairy Science; Livestock Management; and Poultry Science)

01.10 Food Science

01.11 Plant Sciences (including Crop Science; Horticulture Science; Agricultural and Horticultural Plant Breeding; Pest Management; and Range Science)

01.12 Soil Science and Agronomy

GROUP (3)

(03) Natural Resources and Conservation

03.01 Natural Resources Conservation and Research & Environmental/Wildlife/Wildlands Science/Studies (including Environmental Protection)

03.02 Natural Resources Management and Policy

03.03 Fishing and Fisheries Sciences and Management

03.05 Forestry

GROUP (4)

(04) Architecture and Related Services

04.02 Architecture (including Environmental, Interior & Landscape Design; Architectural History; and Architectural Technology)

04.03 City/Urban, Community and Regional Planning; Architectural Urban Design and Planning

GROUP (5)

(05) Area/Regional, Ethnic, Cultural, and Gender Studies

GROUP (9)

(09) Communication, Journalism, and Related Programs

09.01 Communication and Media Studies

09.04 Journalism (including Broadcast Journalism; Photojournalism; On-Line/Web-page News)

09.07 Radio, Television, and Digital Communication (including Media/Multimedia)

09.09 Public Relations, Advertising, and Applied Communication

09.10 Publishing

GROUP (10)

(10) Communications Technologies, Technicians and Support Services

10.01 Communications Technology/Technicians

10.02 Audiovisual Communications Technologies/Technicians (including Photographic and Film/Video Technology/Technician and Assistant; Radio and Television Broadcasting Technology/Technician; and Recording Arts Technology/Technician)

10.03 Graphic Communications (including Printing Management; Prepress/Desktop Publishing and Digital Imaging Design; Animation; Interactive Technology; Video Graphics and Special Effects; Graphic and Printing Equipment Operator; Printing Press Operator; Computer Typography; and Composition Equipment Operator)

GROUP (11)

(11) Computer and Information Sciences and Support Services

11.01 Computer and Information Sciences, General (including Web Page Design; Database Administration; Cybernetics; Artificial Intelligence and Robotics and Information Technology)

11.02 Computer Programming

11.03 Data Processing

11.04 Information Science/Studies

11.05 Computer Systems Analysis

11.06 Data Entry/Microcomputer Applications & Word Processing

11.07 Computer Science (including Systems Engineering)

11.10 Computer/Information Technology Administration and Management

GROUP (12)

(12) Personal and Culinary Services

12.03 Funeral & Mortuary Service

12.05 Cooking, Culinary Arts and Related Services (including Baking and Pastry Arts; Bartending; Culinary Arts/Chef Training; Restaurant, Culinary, and Catering Management; Food Preparation/Professional Cooking; Meat Cutting; Food Service; Institutional Food Workers)

GROUP (13)

(13) Education

13.01 Education, General (including Educational Administration)

13.02 Bilingual, Multilingual, and Multicultural

13.03 Curriculum and Instruction (including Media Design)

13.06 Educational Assessment, Evaluation, and Research

13.09 Social and Philosophical Foundations of Education

13.10 Special Education and Teaching

13.11 Student Counseling and Personnel Services

13.12 Teacher Education and Professional Development, Specific Levels and Methods (including all types of levels and types of teaching including, but not limited to Adult and Continuing Education; Early Childhood, Elementary, Middle School and Secondary Education; Montessori Teacher Education; and Waldorf/Steiner Teacher Education)

13.13 Teacher Education and Professional Development, Specific Subject Areas (including, but not limited to Agriculture; Art; Business; Computers; Drama; Driver Safety; English, Foreign Languages; Geography; Health; History; Home Economics; Industrial Arts; Sales and Marketing; Math; Music; Physical Education; Psychology; Reading; Science; Social Studies; and Speech)

GROUP (14)

(14) Engineering

14.01 Engineering, General

14.02 Aerospace, Aeronautical and Astronautical Engineering

14.03 Agricultural/Biological Engineering and Bioengineering

14.05 Biomedical/Medical Engineering

14.07 Chemical Engineering

14.08 Civil Engineering (including Geotechnical, Structural, Water Resources, and Transportation and Highway Engineering)

14.09 Computer Hardware and Software Engineering

14.10 Electrical, Electronics and Communications Engineering (including Radio Engineering)

14.14 Environmental Engineering (including Pollution Control; Waste and Hazardous Material Disposal)

14.18 Materials Engineering

14.19 Mechanical Engineering

14.20 Metallurgical Engineering

14.21 Mining and Mineral Engineering

14.22 Naval Architecture and Marine Engineering

14.23 Nuclear Engineering

14.24 Ocean Engineering

14.25 Energy Engineering & Tech. (including Petroleum and Natural Gas)

14.33 Construction Engineering

14.35 Industrial/Manufacturing Engineering

14.38 Surveying Engineering

14.39 Geological/Geophysical Engineering

GROUP (16)

(16) Foreign Languages, Literatures, and Linguistics (including Foreign Languages and Literatures; Linguistics; Language Interpretation and Translation; Comparative Literature; Language, Literature and Linguistics for all Languages in the world including various forms and study of sign language)

GROUP (19)

(19) Family and Consumer Sciences/Human Sciences (formerly Home Economics)

19.01 Family and Consumer Sciences/Human Sciences, General (formerly Home Economics)

19.05 Foods, Nutrition, and Related Services

19.09 Apparel and Textiles (including Textile Manufacturing; Textile Science; Apparel and Textile Marketing Management; and Fashion and Fabric Consulting)

GROUP (22)

(22) Legal Professions and Studies

(including Law, Legal Research, Judicature and all branches and specialties in the practice of law)

GROUP (23)

(23) English Language and Literature/Letters

(including English Literature, Composition, and various types of English Writing)

GROUP (24)

(24) Liberal Arts And Sciences, General Studies and Humanities

GROUP (25)

(25) Library Science

GROUP (26)

(26) Biological Sciences

26.01 Biology

26.03 Botany/Plant Biology

26.04 Anatomical Sciences (including Anatomy)

26.05 Microbiological Sciences and Immunology (also under Medicine)

26.07 Zoology/Animal Biology

26.08 Genetics (all types, including Animal; Plant; Molecular; Microbial and Eukaryotic; and Human; as well as Genetic Engineering) Biomathematics and Bioinformatics

26.12 Biotechnology

26.13 Ecology, Population Biology

GROUP (27)

(27) Mathematics and Statistics

GROUP (31)

(31) Parks, Recreation, Leisure, Fitness Studies and Camp Counselor

31.01 Parks, Recreation and Leisure Studies

31.05 Health and Physical Education/Fitness

36.0101 Camp Counselor

GROUP (38)

(38) Philosophy and Religious Studies

GROUP (39)

(39) Theology and Religious Vocations

GROUP (40)

(40) Physical Sciences

40.01 Physical Sciences

40.02 Astronomy; Astrophysics; Planetary Astronomy and Science; and Space Technology

40.04 Atmospheric Sciences and Meteorology

40.05 Chemistry

40.06 Geological and Earth Sciences/Geosciences (including Oceanography; Hydrology)

40.08 Physics

GROUP (41)

(41) Science & Laboratory Technologies/Technicians

GROUP (42)

(42) Psychology

(including, but not limited to Psychometrics and Psychobiology)

GROUP (43)

(43) Security and Protective Services

(including Law Enforcement, Fire Protection, and Corrections)

GROUP (44)

(44) Public Administration and Social Service Professions

44.04 Public Administration (including City Planning, Urban Planning, Urban Transportation)

44.07 Social Work/Youth Services (including Welfare and Probation)

GROUP (45)

(45) Social Sciences

45.02 Anthropology (including Physical Anthropology)

45.03 Archeology

45.04 Criminology

45.05 Demography and Population Studies

45.06 Economics

45.07 Geography and Cartography

45.09 International Relations and Affairs

45.10 Political Science and Government

45.11 Sociology

45.99 Social Sciences, Other

GROUP (46)

(46) Construction Trades

GROUP (47)

(47) Mechanic and Repair Technologies/Technicians

GROUP (48)

(48) Precision Production

Application of technical knowledge and skills to create products using techniques of precision craftsmanship or technical illustration.

48.00 Precision Production Trades (including Metal Working, Woodworking, and Drafting)

GROUP (49)

(49) Transportation and Materials Moving

49.01 Air Transportation (including Aeronautics/Aviation/Aerospace Science and Technology, General; Airline/Commercial/Professional Pilot and Flight Crew; Aviation/Airway Management and Operations; Air Traffic Controller; Flight Instructor)

49.02 Ground Transportation (including Construction/Heavy Equipment/Earthmoving Equipment Operation; Commercial Vehicle Operation; and Mobil Crane Operation)

49.03 Marine Transportation (including Commercial Fishing; Diver, Professional Instructor; Marine Science/Merchant Marine)

GROUP (50)

(50) Visual and Performing Arts

50.01 Visual and Performing Arts (including, but not limited to: Music, Theatre, Sculpture, Photography, TV & Motion Picture Arts & Sciences)

50.04 Design and Applied Arts (including Commercial and Advertising Art; Industrial Design; Fashion/Apparel Design; Interior Design; Graphic Design; and Illustration)

GROUP (51)

(51) Health Services/Allied Health/Health Sciences/Medical Research, Gen'l

51.01 Chiropractic

51.02 Communication Disorders Sciences & Services (including Speech Language Pathology and Sign Language Interpretation)

51.04 Dentistry, Advanced/Graduate Dentistry, Oral Sciences, Dental Technology (including Orthodontics)

51.06 Dental Support Services/Assistant

51.07 Health and Medical Administrative Services (including statistics and documentation)

51.08 Medical Support Services/Assistant

51.09 Allied Health Diagnostic, Intervention, and Treatment Professions (including, but not limited to the following fields: Emergency Medical; Cardiovascular; Electrocardiograph; Electroneurodiagnostic/Electroencephalographic; Nuclear Medical; Perfusionist; Radiation Therapy; Respiratory Care Therapy; Surgical; Sonography and Ultrasound; Radiography; Athletic Training; Genetic Therapy; Cardiopulmonary; and Radiation Protection/Health Physics)

51.10 Clinical/Medical Laboratory Science and Allied Professions

51.12 Medicine, Medical Research, including all specialties and fields (including, but not limited to: Allergy and Immunology, Anesthesiology, Audiology, Cancer, Cardiography, Cardiology, Colon and Rectal Surgery, Dermatology, Embryology, Emergency Medicine, Epidemiology, Family Practice, Forensic Medicine, Gastroenterology, Geriatrics, Hematology, Internal Medicine, Medical Genetics, Neurological Surgery, Neurology, Nuclear Medicine, Obstetrics and Gynecology, Oncology, Ophthalmology, Orthopedic Surgery, Otolaryngology, Pathology, Pediatrics, Pharmacology and Pharmaceutics, Physical Medicine and Rehabilitation, Physiology, Plastic Surgery, Podiatry, Preventive Medicine, Proctology, Psychiatry, Radiology, Radiation Oncology, Speech Pathology, Sports Medicine, Surgery, Thoracic Surgery, Toxicology, Transitional, Thoracic Surgery, Urology, Virology)

51.15 Mental and Social Health Services (including Substance Abuse Counseling; Marriage/Family Counseling; and Psychoanalysis)

51.16 Nursing (including all specialties)

51.17 Optometry

51.19 Osteopathic Medicine/Osteopathy

51.20 Pharmacy (including Administration)

51.22 Public Health (including, but not limited to Environmental Health; Occupational Health and Industrial Hygiene; Public Health Education and Promotion; International Health; Community Health and Preventive Medicine; and Health Services Administration)

51.23 Rehabilitation and Therapeutic Professions

51.24 Veterinary Medicine

51.25 Veterinary Biomedical and Clinical Sciences (including all Veterinary Sciences; Anatomy; Physiology; Microbiology; Pathology; and Toxicology as well as Animal/Veterinary Surgery and Medicine)

51.27 Medical Illustration and Informatics & Medical Photography

51.31 Dietetics and Clinical Nutrition

51.33 Alternative Medicine

GROUP (52)

(52) Business, Management, Marketing, and Related Support Services

52.02 Business Administration, Management and Operations (including Industrial Administration & Management; Small Business Administration/Operations; Franchising)

52.03 Accounting and Related Services

52.04 Business Operations Support and Assistant Services

52.06 Business/Managerial Economics (including Management Studies & Economic Information Analysis)

52.08 Finance, Banking and Financial Management Services

52.09 Hospitality Administration/Management (including Hotel, Motel, and Restaurant Management & Tourism and Travel Services Management)

52.10 Human Resources Management and Services (including Labor and Industrial Relations; Organizational Behavior Studies; and Labor Studies)

52.11 International Business/Trade/Commerce

52.12 Management Information Systems and Services

52.13 Management Sciences and Quantitative Methods (including Operations Research; Statistics)

52.14 Marketing/Marketing Management

52.15 Real Estate

52.16 Taxation

52.17 Insurance

52.20 Construction Management

GROUP (54)

(54) History

54.01 History (including Regional History, such as American, European and Asian; History of Science and Technology; and Public/Applied History and Archival Administration)

GROUP (60)

(60) Residency Programs

Residency programs are designed to prepare medical doctors (M.D.) or osteopaths (DO), dentists (DDS, D.M.D.), and veterinarians (D.V.M.) for certification as practitioners of recognized specialties in their respective professions. These programs are approved and accredited by designated professional associations and require from one to five years to complete, depending on the program. Medical residencies usually require completion of an internship after the M.D. degree for program entry, while requirements vary for dentistry and veterinary programs.

60.01 Dental Residency Programs

60.02 Medical Residency Programs The program sponsor for medical residency programs is The Educational Commission for Foreign Medical Graduates

60.03 Veterinary Residency Programs

End of Index

Skills List by Country

Albania

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Algeria

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Argentina

GROUP (01)

01.00 Agriculture, General

01.01 Agricultural Business and Management

01.09 Animal Sciences

01.10 Food Science

01.11 Plant Sciences

01.12 Soil Science and Agronomy

All of GROUP (03)

GROUP (04)

04.03 City/Urban, Community and Regional Planning; Architectural Urban Design and Planning

All of GROUP (05)

GROUP (09)

09.07 Radio, Television, and Digital Communication

GROUP (10)

10.01 Communications Technology/Technicians

GROUP (11)

11.01 Computer and Information Sciences, General

11.02 Computer Programming

11.03 Data Processing

11.04 Information Science/Studies

11.05 Computer Systems Analysis

11.07 Computer Science

11.10 Computer/Information Technology Administration and Management

GROUP (13)

13.06 Educational Assessment, Evaluation, and Research

13.09 Social and Philosophical Foundations of Education

13.12 Teacher Education and Professional Development, Specific Levels and Methods

13.13 Teacher Education and Professional Development, Specific Subject Areas

GROUP (14)

14.01 Engineering, General

14.02 Aerospace, Aeronautical and Astronautical Engineering

14.03 Agricultural/Biological Engineering and Bioengineering

14.05 Biomedical/Medical Engineering

14.07 Chemical Engineering

14.08 Civil Engineering

14.09 Computer Hardware and Software Engineering

14.10 Electrical, Electronics and Communications Engineering

14.14 Environmental Engineering

14.18 Materials Engineering

14.20 Metallurgical Engineering

14.21 Mining and Mineral Engineering

14.23 Nuclear Engineering

14.25 Energy Engineering & Tech.

14.35 Industrial/Manufacturing Engineering

14.39 Geological/Geophysical Engineering

All of GROUP (22)

GROUP (26)

26.05 Microbiological Sciences and Immunology

26.08 Genetics

26.11 Biomathematics and Bioinformatics

26.12 Biotechnology

26.13 Ecology, Population Biology

All of GROUP (27)

GROUP (40)

40.01 Physical Sciences

40.05 Chemistry

40.06 Geological and Earth Sciences/Geosciences

40.08 Physics

All of GROUP (43)

All of GROUP (44)

GROUP (45)

45.04 Criminology

45.05 Demography and Population Studies

45.06 Economics

45.10 Political Science and Government

45.11 Sociology

GROUP (51)

51.09 Allied Health Diagnostic, Intervention, and Treatment Professions

51.12 Medicine, Medical Research, including all specialties and fields

51.22 Public Health

51.27 Medical Illustration and Informatics & Medical Photography

GROUP (52)

52.02 Business Administration, Management and Operations

52.10 Human Resources Management and Services

Armenia

All of GROUP (01)

GROUP (03)

03.01 Natural Resources Conservation and Research & Environmental/Wildlife/Wildlands Science/Studies

03.03 Fishing and Fisheries Sciences and Management

03.05 Forestry

All of GROUP (04)

All of GROUP (11)

All of GROUP (14)

All of GROUP (16)

All of GROUP (22)

All of GROUP (26)

All of GROUP (27)

All of GROUP (38)

All of GROUP (40)

GROUP (44)

44.07 Social Work/Youth Services

GROUP (45)

45.02 Anthropology

45.03 Archeology

45.04 Criminology

45.05 Demography and Population Studies

45.06 Economics

45.10 Political Science and Government

45.11 Sociology

45.99 Social Sciences, Other

All of GROUP (47)

GROUP (51)

51.24 Veterinary Medicine

51.25 Veterinary Biomedical and Clinical Sciences

All of GROUP (54)

GROUP (60)

60.03 Veterinary Residency Programs

Bahrain

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Bangladesh

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Belize

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Benin

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Bolivia

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Brazil

All of GROUP (01)

All of GROUP (03)

GROUP (04)

04.03 City/Urban, Community and Regional Planning; Architectural Urban Design and Planning

GROUP (09)

09.01 Communication and Media Studies

09.04 Journalism

09.07 Radio, Television, and Digital Communication

GROUP (10)

10.01 Communications Technology/Technicians

GROUP (11)

11.01 Computer and Information Sciences, General

11.02 Computer Programming

11.03 Data Processing

11.04 Information Science/Studies

11.05 Computer Systems Analysis

11.07 Computer Science

GROUP (13)

13.03 Curriculum and Instruction

13.12 Teacher Education and Professional Development, Specific Levels and Methods

13.13 Teacher Education and Professional Development, Specific Subject Areas

GROUP (14)

14.02 Aerospace, Aeronautical and Astronautical Engineering

14.03 Agricultural/Biological Engineering and Bioengineering

14.05 Biomedical/Medical Engineering

14.07 Chemical Engineering

14.08 Civil Engineering

14.09 Computer Hardware and Software Engineering

14.10 Electrical, Electronics and Communications Engineering

14.14 Environmental Engineering

14.18 Materials Engineering

14.19 Mechanical Engineering

14.21 Mining and Mineral Engineering

14.22 Naval Architecture and Marine Engineering

14.23 Nuclear Engineering

14.24 Ocean Engineering

14.25 Energy Engineering & Tech.

14.35 Industrial/Manufacturing Engineering

14.38 Surveying Engineering

All of GROUP (25)

GROUP (26)

26.01 Biology

26.03 Botany/Plant Biology

26.05 Microbiological Sciences and Immunology

26.07 Zoology/Animal Biology

26.08 Genetics

26.13 Ecology, Population Biology

All of GROUP (27)

All of GROUP (40)

All of GROUP (41)

All of GROUP (43)

All of GROUP (44)

All of GROUP (46)

All of GROUP (49)

GROUP (51)

51.07 Health and Medical Administrative Services

51.12 Medicine, Medical Research, including all specialties and fields

51.15 Mental and Social Health Services

51.16 Nursing

51.22 Public Health

51.23 Rehabilitation and Therapeutic Professions

GROUP (52)

52.02 Business Administration, Management and Operations

52.17 Insurance

GROUP (60)

60.02 Medical Residency Programs

Burkina Faso

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Burma

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Cambodia

GROUP (01)

01.01 Agricultural Business and Management

GROUP (03)

03.01 Natural Resources Conservation and Research & Environmental/Wildlife/Wildlands Science/Studies

GROUP (04)

04.03 City/Urban, Community and Regional Planning; Architectural Urban Design and Planning

GROUP (10)

10.01 Communications Technology/Technicians

GROUP (13)

13.01 Education, General

14.14 Environmental Engineering

GROUP (44)

44.04 Public Administration

GROUP (51)

51.08 Medical Support Services/Assistant

51.12 Medicine, Medical Research, including all specialties and fields

Cameroon

All of GROUP (01)

GROUP (03)

03.01 Natural Resources Conservation and Research & Environmental/Wildlife/Wildlands Science/Studies

03.05 Forestry

All of GROUP (04)

All of GROUP (09)

All of GROUP (10)

All of GROUP (11)

All of GROUP (13)

All of GROUP (14)

All of GROUP (16)

GROUP (19)

19.05 Foods, Nutrition, and Related Services

All of GROUP (23)

All of GROUP (24)

All of GROUP (25)

All of GROUP (26)

All of GROUP (27)

GROUP (31)

31.01 Parks, Recreation and Leisure Studies

All of GROUP (38)

All of GROUP (39)

All of GROUP (40)

All of GROUP (41)

All of GROUP (43)

All of GROUP (44)

All of GROUP (45)

All of GROUP (46)

All of GROUP (47)

All of GROUP (50)

GROUP (51)

51.01 Chiropractic

51.04 Dentistry, Advanced/Graduate Dentistry, Oral Sciences, Dental Technology

51.06 Dental Support Services/Assistant

51.07 Health and Medical Administrative Services

51.08 Medical Support Services/Assistant

51.09 Allied Health Diagnostic, Intervention, and Treatment Professions

51.10 Clinical/Medical Laboratory Science and Allied Professions

51.12 Medicine, Medical Research, including all specialties and fields

51.15 Mental and Social Health Services

51.16 Nursing

51.17 Optometry

51.19 Osteopathic Medicine/Osteopathy

51.20 Pharmacy

51.22 Public Health

51.23 Rehabilitation and Therapeutic Professions

51.24 Veterinary Medicine

51.25 Veterinary Biomedical and Clinical Sciences

51.27 Medical Illustration and Informatics & Medical Photography

51.31 Dietetics and Clinical Nutrition

51.33 Alternative Medicine

GROUP (52)

52.02 Business Administration, Management and Operations

52.03 Accounting and Related Services

52.04 Business Operations Support and Assistant Services

52.06 Business/Managerial Economics

52.08 Finance, Banking and Financial Management Services

52.09 Hospitality Administration/Management

52.11 International Business/Trade/Commerce

52.12 Management Information Systems and Services

52.13 Management Sciences and Quantitative Methods

52.14 Marketing/Marketing Management

52.15 Real Estate

52.20 Construction Management

All of GROUP (54)

All of GROUP (60)

Cape Verde

All of GROUP (01)

All of GROUP (03)

All of GROUP (10)

All of GROUP (11)

All of GROUP (13)

All of GROUP (14)

All of GROUP (16)

All of GROUP (26)

All of GROUP (27)

All of GROUP (40)

All of GROUP (41)

All of GROUP (42)

All of GROUP (43)

All of GROUP (44)

All of GROUP (51)

Chile

All of GROUP (04)

All of GROUP (10)

All of GROUP (11)

All of GROUP (13)

GROUP (14)

14.02 Aerospace, Aeronautical and Astronautical Engineering

14.05 Biomedical/Medical Engineering

14.07 Chemical Engineering

14.09 Computer Hardware and Software Engineering

14.10 Electrical, Electronics and Communications Engineering

14.14 Environmental Engineering

14.19 Mechanical Engineering

14.21 Mining and Mineral Engineering

14.22 Naval Architecture and Marine Engineering

14.25 Energy Engineering & Tech.

14.35 Industrial/Manufacturing Engineering

14.38 Surveying Engineering

All of GROUP (16)

GROUP (19)

19.05 Foods, Nutrition, and Related Services

All of GROUP (23)

All of GROUP (25)

GROUP (26)

26.07 Zoology/Animal Biology

26.08 Genetics

26.13 Ecology, Population Biology

All of GROUP (27)

GROUP (31)

31.01 Parks, Recreation and Leisure Studies

31.05 Health and Physical Education/Fitness

All of GROUP (38)

GROUP (45)

45.02 Anthropology

45.03 Archaeology

45.04 Criminology

45.05 Demography and Population Studies

45.06 Economics

45.10 Political Science and Government

45.11 Sociology

45.99 Social Sciences, Other

All of GROUP (47)

GROUP (51)

51.24 Veterinary Medicine

51.25 Veterinary Biomedical and Clinical Sciences

All of GROUP (54)

GROUP (60)

60.03 Veterinary Residency Programs

China—Mainland

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Colombia

GROUP (01)

01.01 Agricultural Business and Management

01.06 Applied Horticulture/Horticulture

01.12 Soil Science and Agronomy

All of GROUP (03)

GROUP (09)

09.01 Communication and Media Studies

09.04VJournalism

GROUP (10)

10.01 Communications Technology/Technicians

10.02 Audiovisual Communications Technologies/Technicians

All of GROUP (11)

All of GROUP (13)

GROUP (14)

14.02 Aerospace, Aeronautical and Astronautical Engineering

14.03 Agricultural/Biological Engineering and Bioengineering

14.05 Biomedical/Medical Engineering

14.09 Computer Hardware and Software Engineering

14.21 Mining and Mineral Engineering

14.22 Naval Architecture and Marine Engineering

14.23 Nuclear Engineering

14.25 Energy Engineering & Tech.

14.35 Industrial/Manufacturing Engineering

All of GROUP (16)

All of GROUP (23)

GROUP (26)

26.05 Microbiological Sciences and Immunology

26.07 Zoology/Animal Biology

26.08 Genetics

26.11 Biomathematics and Bioinformatics

26.12 Biotechnology

26.13 Ecology, Population Biology

All of GROUP (27)

GROUP (40)

40.06 Geological and Earth Sciences/Geosciences

All of GROUP (43)

All of GROUP (44)

All of GROUP (48)

All of GROUP (49)

GROUP (51)

51.02 Communication Disorders Sciences & Services

51.04 Dentistry, Advanced/Graduate Dentistry, Oral Sciences, Dental Technology

51.06 Dental Support Services/Assistant

51.09 Allied Health Diagnostic, Intervention, and Treatment Professions

51.12 Medicine, Medical Research, including all specialties and fields

51.16 Nursing

51.17 Optometry

51.19 Osteopathic Medicine/Osteopathy

51.20 Pharmacy

51.22 Public Health

51.23 Rehabilitation and Therapeutic Professions

51.24 Veterinary Medicine

51.25 Veterinary Biomedical and Clinical Sciences

51.31 Dietetics and Clinical Nutrition

51.33 Alternative Medicine

All of GROUP (60)

Congo (Kinshasa)

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Costa Rica

All of GROUP (01)

All of GROUP (03)

GROUP (04)

04.03 City/Urban, Community and Regional Planning; Architectural Urban Design and Planning

All of GROUP (05)

All of GROUP (09)

All of GROUP (10)

All of GROUP (11)

GROUP (12)

12.03 Funeral & Mortuary Service

GROUP (13)

13.01 Education, General

13.09 Social and Philosophical Foundations of Education

13.10 Special Education and Teaching

13.12 Teacher Education and Professional Development, Specific Levels and Methods

13.13 Teacher Education and Professional Development, Specific Subject Areas

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Djibouti

All of GROUP (01)

All of GROUP (13)

All of GROUP (19)

All of GROUP (23)

All of GROUP (24)

All of GROUP (25)

All of GROUP (26)

All of GROUP (27)

All of GROUP (31)

All of GROUP (41)

All of GROUP (42)

All of GROUP (45)

All of GROUP (46)

All of GROUP (47)

All of GROUP (48)

All of GROUP (51)

All of GROUP (52)

All of GROUP (60)

Dominican Republic

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

East Timor

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Ecuador

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

El Salvador

GROUP (01)

01.00 Agriculture, General

01.01 Agricultural Business and Management

01.06 Applied Horticulture/Horticulture

01.09 Animal Sciences

01.10 Food Science

01.12 Soil Science and Agronomy

GROUP (03)

03.01 Natural Resources Conservation and Research & Environmental/Wildlife/Wildlands Science/Studies

03.02 Natural Resources Management and Policy

03.03 Fishing and Fisheries Sciences and Management

GROUP (04)

04.03 City/Urban, Community and Regional Planning; Architectural Urban Design and Planning

GROUP (09)

09.01 Communication and Media Studies

09.07 Radio, Television, and Digital Communication

09.10 Publishing

All of GROUP (11)

All of GROUP (12)

GROUP (13)

13.01 Education, General

13.02 Bilingual, Multilingual, and Multicultural

13.06 Educational Assessment, Evaluation, and Research

13.09 Social and Philosophical Foundations of Education

13.10 Special Education and Teaching

13.11 Student Counseling and Personnel Services

13.12 Teacher Education and Professional Development, Specific Levels and Methods

13.13 Teacher Education and Professional Development, Specific Subject Areas

GROUP (14)

14.01 Engineering, General

14.02 Aerospace, Aeronautical and Astronautical Engineering

14.05 Biomedical/Medical Engineering

14.07 Chemical Engineering

14.09 Computer Hardware and Software Engineering

14.18 Materials Engineering

14.20 Metallurgical Engineering

14.22 Naval Architecture and Marine Engineering

14.25 Energy Engineering & Tech.

14.33 Construction Engineering

14.35 Industrial/Manufacturing Engineering

14.39 Geological/Geophysical Engineering

All of GROUP (16)

GROUP (19)

19.05 Foods, Nutrition, and Related Services

All of GROUP (23)

All of GROUP (24)

All of GROUP (25)

GROUP (26)

26.04 Anatomical Sciences

26.05 Microbiological Sciences and Immunology

26.07 Zoology/Animal Biology

26.08 Genetics

26.11 Biomathematics and Bioinformatics

26.12 Biotechnology

26.13 Ecology, Population Biology

GROUP (31)

31.01 Parks, Recreation and Leisure Studies

31.05 Health and Physical Education/Fitness

All of GROUP (38)

All of GROUP (40)

All of GROUP (43)

All of GROUP (44)

GROUP (45)

45.02 Anthropology

45.03 Archeology

45.05 Demography and Population Studies

45.07 Geography and Cartography

45.09 International Relations and Affairs

45.10 Political Science and Government

All of GROUP (49)

All of GROUP (50)

GROUP (51)

51.02 Communication Disorders Sciences & Services

51.04 Dentistry, Advanced/Graduate Dentistry, Oral Sciences, Dental Technology

51.06 Dental Support Services/Assistant

51.07 Health and Medical Administrative Services

51.08 Medical Support Services/Assistant

51.09 Allied Health Diagnostic, Intervention, and Treatment Professions

51.10 Clinical/Medical Laboratory Science and Allied Professions

51.15 Mental and Social Health Services

51.16 Nursing

51.17 Optometry

51.19 Osteopathic Medicine/Osteopathy

51.20 Pharmacy

51.22 Public Health

51.23 Rehabilitation and Therapeutic Professions

51.24 Veterinary Medicine

51.25 Veterinary Biomedical and Clinical Sciences

51.27 Medical Illustration and Informatics & Medical Photography

51.31 Dietetics and Clinical Nutrition

51.33 Alternative Medicine

GROUP (52)

52.03 Accounting and Related Services

52.06 Business/Managerial Economics

52.09 Hospitality Administration/Management

52.10 Human Resources Management and Services

52.11 International Business/Trade/Commerce

52.12 Management Information Systems and Services

52.15 Real Estate

52.16 Taxation

52.20 Construction Management

All of GROUP (54)

All of GROUP (60)

Eritrea

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Ethiopia

All of GROUP (01)

All of GROUP (03)

All of GROUP (04)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Fiji

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Gabon

All of GROUP (01)

All of GROUP (03)

All of GROUP (09)

All of GROUP (10)

All of GROUP (11)

All of GROUP (13)

All of GROUP (14)

All of GROUP (16)

All of GROUP (23)

All of GROUP (26)

All of GROUP (27)

All of GROUP (31)

All of GROUP (38)

All of GROUP (40)

All of GROUP (41)

All of GROUP (42)

All of GROUP (43)

All of GROUP (44)

All of GROUP (45)

All of GROUP (51)

All of GROUP (52)

All of GROUP (54)

Gambia, The

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Georgia

All of GROUP (01)

All of GROUP (03)

All of GROUP (04)

All of GROUP (05)

All of GROUP (09)

All of GROUP (13)

All of GROUP (22)

All of GROUP (23)

All of GROUP (25)

All of GROUP (43)

All of GROUP (44)

All of GROUP (45)

All of GROUP (46)

All of GROUP (49)

All of GROUP (51)

All of GROUP (52)

Ghana

All of GROUP (01)

All of GROUP (03)

All of GROUP (04)

All of GROUP (09)

All of GROUP (10)

All of GROUP (11)

All of GROUP (13)

All of GROUP (14)

All of GROUP (16)

GROUP (19)

19.01 Family and Consumer Sciences/Human Sciences, General

19.05 Foods, Nutrition, and Related Services

All of GROUP (24)

All of GROUP (25)

All of GROUP (26)

All of GROUP (27)

All of GROUP (31)

All of GROUP (38)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Guatemala

All of GROUP (01)

All of GROUP (03)

All of GROUP (04)

All of GROUP (05)

GROUP (09)

09.01 Communication and Media Studies

09.04 Journalism—

09.07 Radio, Television, and Digital Communication

09.10 Publishing

All of GROUP (10)

All of GROUP (11)

All of GROUP (13)

All of GROUP (14)

All of GROUP (16)

GROUP (19)

19.01 Family and Consumer Sciences/Human Sciences, General

19.05 Foods, Nutrition, and Related Services

All of GROUP (22)

All of GROUP (23)

All of GROUP (24)

All of GROUP (25)

All of GROUP (26)

All of GROUP (27)

All of GROUP (40)

All of GROUP (41)

All of GROUP (42)

All of GROUP (43)

All of GROUP (44)

All of GROUP (45)

All of GROUP (48)

All of GROUP (49)

All of GROUP (51)

GROUP (52)

52.02 Business Administration, Management and Operations

52.03 Accounting and Related Services

52.04 Business Operations Support and Assistant Services

52.06 Business/Managerial Economics

52.08 Finance, Banking and Financial Management Services

52.09 Hospitality Administration/Management

52.10 Human Resources Management and Services

52.11 International Business/Trade/Commerce

52.12 Management Information Systems and Services

52.13 Management Sciences and Quantitative Methods

52.15 Real Estate

52.16 Taxation

52.20 Construction Management

All of GROUP (60)

Guyana

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Haiti

All of GROUP (01)

All of GROUP (03)

All of GROUP (04)

All of GROUP (09)

All of GROUP (10)

All of GROUP (11)

All of GROUP (13)

All of GROUP (14)

All of GROUP (19)

All of GROUP (22)

All of GROUP (23)

All of GROUP (24)

All of GROUP (26)

All of GROUP (27)

All of GROUP (31)

All of GROUP (40)

All of GROUP (41)

All of GROUP (42)

All of GROUP (43)

All of GROUP (44)

All of GROUP (45)

Honduras

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

India

All of GROUP (01)

All of GROUP (03)

All of GROUP (04)

All of GROUP (05)

All of GROUP (13)

All of GROUP (14)

All of GROUP (16)

GROUP (19)

19.01 Family and Consumer Sciences/Human Sciences, General

19.05 Foods, Nutrition, and Related Services

All of GROUP (22)

All of GROUP (24)

All of GROUP (25)

All of GROUP (26)

All of GROUP (27)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (60)

Indonesia

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Jamaica

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Kazakhstan

GROUP (01)

01.10 Food Science

01.11 Plant Sciences

01.12 Soil Science and Agronomy

All of GROUP (03)

All of GROUP (04)

GROUP (09)

09.01 Communication and Media Studies

09.04 Journalism

09.07 Radio, Television, and Digital Communication

All of GROUP (10)

All of GROUP (11)

GROUP (13)

13.01 Education, General

13.02 Bilingual, Multilingual, and Multicultural

13.03 Curriculum and Instruction

13.06 Educational Assessment, Evaluation, and Research

13.13 Teacher Education and Professional Development, Specific Subject Areas

GROUP (14)

14.01 Engineering, General

14.02 Aerospace, Aeronautical and Astronautical Engineering

14.03 Agricultural/Biological Engineering and Bioengineering

14.07 Chemical Engineering

14.08 Civil Engineering

14.09 Computer Hardware and Software Engineering

14.10 Electrical, Electronics and Communications Engineering

14.14 Environmental Engineering

14.18 Materials Engineering

14.19 Mechanical Engineering

14.20 Metallurgical Engineering

14.21 Mining and Mineral Engineering

14.22 Naval Architecture and Marine Engineering

14.23 Nuclear Engineering

14.25 Energy Engineering & Tech.

14.33 Construction Engineering

14.35 Industrial/Manufacturing Engineering

14.38 Surveying Engineering

14.39 Geological/Geophysical Engineering

All of GROUP (16)

GROUP (19)

19.05 Foods, Nutrition, and Related Services

19.09 Apparel and Textiles

All of GROUP (22)

All of GROUP (23)

All of GROUP (24)

All of GROUP (25)

GROUP (26)

26.01 Biology

26.03 Botany/Plant Biology

26.05 Microbiological Sciences and Immunology

26.08 Genetics

26.12 Biotechnology

26.13 Ecology, Population Biology

All of GROUP (40)

All of GROUP (42)

All of GROUP (44)

GROUP (45)

45.05 Demography and Population Studies

45.06 Economics

45.07 Geography and Cartography

45.09 International Relations and Affairs

45.10 Political Science and Government

45.11 Sociology

45.99 Social Sciences, Other

All of GROUP (46)

All of GROUP (47)

All of GROUP (49)

All of GROUP (50)

GROUP (51)

51.07 Health and Medical Administrative Services

51.09 Allied Health Diagnostic, Intervention, and Treatment Professions

51.12 Medicine, Medical Research, including all specialties and fields

51.20 Pharmacy

51.22 Public Health

51.23 Rehabilitation and Therapeutic Professions

GROUP (52)

52.02 Business Administration, Management and Operations

52.03 Accounting and Related Services

52.08 Finance, Banking and Financial Management Services

52.09 Hospitality Administration/Management

52.11 International Business/Trade/Commerce

52.13 Management Sciences and Quantitative Methods

52.20 Construction Management

Kenya

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Kosovo

GROUP (01)

01.01 Agricultural Business and Management

01. Applied Horticulture/Horticulture

GROUP (03)

03.01 Natural Resources Conservation and Research & Environmental/Wildlife/Wildlands Science/Studies

03.02 Natural Resources Management and Policy

03.05 Forestry

All of GROUP (04)

All of GROUP (05)

All of GROUP (09)

All of GROUP (10)

All of GROUP (11)

All of GROUP (13)

All of GROUP (14)

All of GROUP (16)

All of GROUP (22)

All of GROUP (23)

All of GROUP (24)

All of GROUP (25)

All of GROUP (26)

All of GROUP (27)

All of GROUP (38)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Laos

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Lebanon

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Liberia

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Malawi

All of GROUP (01)

All of GROUP (03)

All of GROUP (04)

All of GROUP (05)

All of GROUP (09)

All of GROUP (10)

All of GROUP (11)

All of GROUP (12)

All of GROUP (13)

GROUP (14)

14.01 Engineering, General

14.03 Agricultural/Biological Engineering and Bioengineering

14.05 Biomedical/Medical Engineering

14.07 Chemical Engineering

14.08 Civil Engineering

14.09 Computer Hardware and Software Engineering

14.10 Electrical, Electronics and Communications Engineering

14.14 Environmental Engineering

14.18 Materials Engineering

14.19 Mechanical Engineering

14.20 Metallurgical Engineering

14.21 Mining and Mineral Engineering

14.25 Energy Engineering & Tech.

14.33 Construction Engineering

14.35 Industrial/Manufacturing Engineering

14.38 Surveying Engineering

14.39 Geological/Geophysical Engineering

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Malaysia

All of GROUP (01)

All of GROUP (03)

All of GROUP (04)

All of GROUP (05)

All of GROUP (09)

All of GROUP (10)

All of GROUP (11)

All of GROUP (13)

All of GROUP (14)

All of GROUP (16)

All of GROUP (19)

All of GROUP (22)

All of GROUP (23)

All of GROUP (24)

All of GROUP (25)

All of GROUP (26)

All of GROUP (27)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Mali

All of GROUP (01)

All of GROUP (03)

All of GROUP (04)

All of GROUP (05)

All of GROUP (09)

All of GROUP (10)

All of GROUP (11)

All of GROUP (13)

All of GROUP (14)

All of GROUP (16)

All of GROUP (19)

All of GROUP (22)

All of GROUP (23)

All of GROUP (24)

All of GROUP (25)

All of GROUP (26)

All of GROUP (27)

All of GROUP (40)

All of GROUP (41)

All of GROUP (42)

All of GROUP (43)

All of GROUP (44)

All of GROUP (45)

All of GROUP (46)

All of GROUP (48)

All of GROUP (49)

All of GROUP (50)

All of GROUP (51)

All of GROUP (52)

All of GROUP (54)

All of GROUP (60)

Mauritania

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Mauritius

All of GROUP (01)

All of GROUP (03)

All of GROUP (04)

GROUP (09)

09.01 Communication and Media Studies

09.07 Radio, Television, and Digital Communication

GROUP (10)

10.01 Communications Technology/Technicians

10.02 Audiovisual Communications Technologies/Technicians

All of GROUP (11)

All of GROUP (13)

GROUP (14)

14.01 Engineering, General

14.02 Aerospace, Aeronautical and Astronautical Engineering

14.05 Biomedical/Medical Engineering

14.07 Chemical Engineering

14.08 Civil Engineering

14.09 Computer Hardware and Software Engineering

14.10 Electrical, Electronics and Communications Engineering

14.14 Environmental Engineering

14.18 Materials Engineering

14.19 Mechanical Engineering

14.20 Metallurgical Engineering

14.22 Naval Architecture and Marine Engineering

14.25 Energy Engineering & Tech.

14.33 Construction Engineering

14.35 Industrial/Manufacturing Engineering

14.38 Surveying Engineering

14.39 Geological/Geophysical Engineering

All of GROUP (16)

GROUP (19)

19.05 Foods, Nutrition, and Related Services

All of GROUP (22)

All of GROUP (23)

All of GROUP (24)

All of GROUP (26)

All of GROUP (27)

GROUP (31)

31.01 Parks, Recreation and Leisure Studies

31.05 Health and Physical Education/Fitness

All of GROUP (38)

GROUP (40)

40.01 Physical Sciences

40.02 Astronomy; Astrophysics; Planetary Astronomy and Science; and Space Technology

40.04 Atmospheric Sciences and Meteorology

40.05 Chemistry

40.06 Geological and Earth Sciences/Geosciences

All of GROUP (41)

All of GROUP (42)

All of GROUP (43)

All of GROUP (44)

All of GROUP (45)

All of GROUP (46)

All of GROUP (49)

All of GROUP (50)

GROUP (51)

51.01 Chiropractic

51.04 Dentistry, Advanced/Graduate Dentistry, Oral Sciences, Dental Technology

51.06 Dental Support Services/Assistant

51.07 Health and Medical Administrative Services

51.08 Medical Support Services/Assistant

51.10 Clinical/Medical Laboratory Science and Allied Professions

51.12 Medicine, Medical Research, including all specialties and fields

51.15 Mental and Social Health Services

51.16 Nursing

51.17 Optometry

51.19 Osteopathic Medicine/Osteopathy

51.20 Pharmacy

51.23 Rehabilitation and Therapeutic Professions

51.24 Veterinary Medicine

51.25 Veterinary Biomedical and Clinical Sciences

51.27 Medical Illustration and Informatics & Medical Photography

51.31 Dietetics and Clinical Nutrition

GROUP (52)

52.20 Construction Management

All of GROUP (54)

Montenegro

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Mozambique

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (60)

Namibia

All of GROUP (01)

All of GROUP (03)

All of GROUP (04)

All of GROUP (05)

All of GROUP (09)

All of GROUP (10)

All of GROUP (11)

All of GROUP (13)

All of GROUP (14)

All of GROUP (16)

All of GROUP (19)

All of GROUP (22)

All of GROUP (23)

All of GROUP (24)

All of GROUP (25)

All of GROUP (26)

All of GROUP (27)

GROUP (31)

31.01 Parks, Recreation and Leisure Studies

31.05 Health and Physical Education/Fitness

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Nepal

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Nicaragua

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Niger

All of GROUP (01)

All of GROUP (03)

All of GROUP (04)

All of GROUP (05)

GROUP (09)

09.01 Communication and Media Studies

09.04 Journalism—

09.07 Radio, Television, and Digital Communication

09.09 Public Relations, Advertising, and Applied Communication

GROUP (10)

10.01 Communications Technology/Technicians

10.02 Audiovisual Communications Technologies/Technicians

All of GROUP (11)

All of GROUP (13)

GROUP (14)

14.01 Engineering, General

14.03 Agricultural/Biological Engineering and Bioengineering

14.05 Biomedical/Medical Engineering

14.07 Chemical Engineering

14.08 Civil Engineering

14.09 Computer Hardware and Software Engineering

14.10 Electrical, Electronics and Communications Engineering

14.14 Environmental Engineering

14.18 Materials Engineering

14.19 Mechanical Engineering

14.20 Metallurgical Engineering

14.21 Mining and Mineral Engineering

14.23 Nuclear Engineering

14.25 Energy Engineering & Tech.

14.33 Construction Engineering

14.35 Industrial/Manufacturing Engineering

14.38 Surveying Engineering

14.39 Geological/Geophysical Engineering

All of GROUP (26)

All of GROUP (27)

All of GROUP (40)

All of GROUP (41)

All of GROUP (43)

All of GROUP (45)

GROUP (49)

49.01 Air Transportation

49.02 Ground Transportation

All of GROUP (51)

All of GROUP (52)

All of GROUP (54)

All of GROUP (60)

Nigeria

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (60)

Oman

GROUP (01)

01.00 Agriculture, General

01.01 Agricultural Business and Management

GROUP (03)

03.03 Fishing and Fisheries Sciences and Management

GROUP (04)

04.02 Architecture

GROUP (13)

13.10 Special Education and Teaching

13.12 Teacher Education and Professional Development, Specific Levels and Methods

GROUP (14)

14.08 Civil Engineering

14.10 Electrical, Electronics and Communications Engineering

14.19 Mechanical Engineering

14.20 Metallurgical Engineering

14.22 Naval Architecture and Marine Engineering

14.33 Construction Engineering

All of GROUP (22)

All of GROUP (26)

All of GROUP (27)

GROUP (40)

40.05 Chemistry

40.06 Geological and Earth Sciences/Geosciences

40.08 Physics

All of GROUP (41)

All of GROUP (44)

GROUP (45)

45.06 Economics

All of GROUP (46)

All of GROUP (47)

GROUP (51)

51.01 Chiropractic

51.04 Dentistry, Advanced/Graduate Dentistry, Oral Sciences, Dental Technology

51.06 Dental Support Services/Assistant

51.07 Health and Medical Administrative Services

51.09 Allied Health Diagnostic, Intervention, and Treatment Professions

51.10 Clinical/Medical Laboratory Science and Allied Professions

51.12 Medicine, Medical Research, including all specialties and fields

51.16 Nursing

51.17 Optometry

51.22 Public Health

51.23 Rehabilitation and Therapeutic Professions

51.33 Alternative Medicine

GROUP (52)

52.20 Construction Management

Palestinian Authority (Gaza and West Bank), The

All of GROUP (01)

GROUP (03)

03.01 Natural Resources Conservation and Research & Environmental/Wildlife/Wildlands Science/Studies

03.02 Natural Resources Management and Policy

GROUP (04)

04.03 City/Urban, Community and Regional Planning; Architectural Urban Design and Planning

All of GROUP (05)

GROUP (09)

09.01 Communication and Media Studies

09.04 Journalism—

09.07 Radio, Television, and Digital Communication

09.09 Public Relations, Advertising, and Applied Communication

All of GROUP (10)

All of GROUP (11)

All of GROUP (13)

GROUP (14)

14.01 Engineering, General

14.05 Biomedical/Medical Engineering

14.07 Chemical Engineering

14.08 Civil Engineering

14.09 Computer Hardware and Software Engineering

14.10 Electrical, Electronics and Communications Engineering

14.14 Environmental Engineering

14.19 Mechanical Engineering

14.21 Mining and Mineral Engineering

14.25 Energy Engineering & Tech.

14.33 Construction Engineering

14.35 Industrial/Manufacturing Engineering

14.38 Surveying Engineering

14.39 Geological/Geophysical Engineering

All of GROUP (16)

GROUP (19)

19.09 Apparel and Textiles

All of GROUP (22)

All of GROUP (23)

All of GROUP (24)

All of GROUP (25)

GROUP (26)

26.01 Biology

All of GROUP (27)

All of GROUP (38)

All of GROUP (39)

GROUP (40)

40.01 Physical Sciences

40.04 Atmospheric Sciences and Meteorology

40.05 Chemistry

40.08 Physics

All of GROUP (41)

All of GROUP (42)

All of GROUP (43)

All of GROUP (44)

All of GROUP (45)

All of GROUP (46)

All of GROUP (47)

All of GROUP (48)

GROUP (49)

49.02 Ground Transportation

All of GROUP (50)

All of GROUP (51)

All of GROUP (52)

All of GROUP (54)

GROUP (60)

60.01 Dental Residency Programs

60.02 Medical Residency Programs

Paraguay

GROUP (01)

01.01 Agricultural Business and Management

01.09 Animal Sciences

01.10 Food Science

All of GROUP (03)

All of GROUP (05)

GROUP (09)

09.07 Radio, Television, and Digital Communication

09.09 Public Relations, Advertising, and Applied Communication

All of GROUP (11)

All of GROUP (13)

GROUP (14)

14.02 Aerospace, Aeronautical and Astronautical Engineering

14.05 Biomedical/Medical Engineering

14.07 Chemical Engineering

14.09 Computer Hardware and Software Engineering

14.18 Materials Engineering

14.21 Mining and Mineral Engineering

14.25 Energy Engineering & Tech.

14.35 Industrial/Manufacturing Engineering

14.39 Geological/Geophysical Engineering

All of GROUP (16)

All of GROUP (23)

All of GROUP (24)

All of GROUP (26)

GROUP (31)

31.01 Parks, Recreation and Leisure Studies

31.05 Health and Physical Education/Fitness

All of GROUP (38)

All of GROUP (39)

GROUP (40)

40.04 Atmospheric Sciences and Meteorology

All of GROUP (42)

All of GROUP (43)

All of GROUP (44)

GROUP (45)

45.02 Anthropology

45.03 Archeology

45.07 Geography and Cartography

45.09 International Relations and Affairs

45.10 Political Science and Government

45.11 Sociology

All of GROUP (46)

All of GROUP (49)

All of GROUP (50)

GROUP (51)

51.02 Communication Disorders Sciences & Services

51.04 Dentistry, Advanced/Graduate Dentistry, Oral Sciences, Dental Technology

51.06 Dental Support Services/Assistant

51.07 Health and Medical Administrative Services

51.08 Medical Support Services/Assistant

51.09 Allied Health Diagnostic, Intervention, and Treatment Professions

51.10 Clinical/Medical Laboratory Science and Allied Professions

51.12 Medicine, Medical Research, including all specialties and fields

51.15 Mental and Social Health Services

51.16 Nursing

51.19 Osteopathic Medicine/Osteopathy

51.20 Pharmacy

51.22 Public Health

51.23 Rehabilitation and Therapeutic Professions

51.24 Veterinary Medicine

51.25 Veterinary Biomedical and Clinical Sciences

51.27 Medical Illustration and Informatics & Medical Photography

51.31 Dietetics and Clinical Nutrition

GROUP (52)

52.02 Business Administration, Management and Operations

52.03 Accounting and Related Services

52.04 Business Operations Support and Assistant Services

52.06 Business/Managerial Economics

52.08 Finance, Banking and Financial Management Services

52.09 Hospitality Administration/Management

52.10 Human Resources Management and Services

52.11 International Business/Trade/Commerce

52.12 Management Information Systems and Services

52.13 Management Sciences and Quantitative Methods

52.20 Construction Management

All of GROUP (54)

GROUP (60)

60.02 Medical Residency Programs

60.03 Veterinary Residency Programs

Peru

All of GROUP (03)

All of GROUP (05)

All of GROUP (09)

All of GROUP (10)

All of GROUP (11)

All of GROUP (13)

All of GROUP (14)

All of GROUP (16)

All of GROUP (19)

All of GROUP (22)

All of GROUP (23)

All of GROUP (24)

All of GROUP (25)

All of GROUP (26)

All of GROUP (27)

All of GROUP (31)

All of GROUP (40)

All of GROUP (41)

All of GROUP (42)

All of GROUP (43)

All of GROUP (44)

All of GROUP (45)

All of GROUP (48)

All of GROUP (50)

All of GROUP (51)

All of GROUP (52)

GROUP (60)

60.01 Dental Residency Programs

60.02 Medical Residency Programs

Philippines

All of GROUP (01)

All of GROUP (03)

GROUP (04)

04.03 City/Urban, Community and Regional Planning; Architectural Urban Design and Planning

All of GROUP (05)

GROUP (09)

09.01 Communication and Media Studies

09.09 Public Relations, Advertising, and Applied Communication

09.10 Publishing

All of GROUP (10)

All of GROUP (11)

GROUP (13)

13.02 Bilingual, Multilingual, and Multicultural

13.06 Educational Assessment, Evaluation, and Research

13.09 Social and Philosophical Foundations of Education

13.10 Special Education and Teaching

13.11 Student Counseling and Personnel Services

13.12 Teacher Education and Professional Development, Specific Levels and Methods

13.13 Teacher Education and Professional Development, Specific Subject Areas

All of GROUP (14)

All of GROUP (16)

All of GROUP (19)

All of GROUP (23)

All of GROUP (25)

All of GROUP (26)

All of GROUP (27)

All of GROUP (31)

All of GROUP (39)

All of GROUP (40)

All of GROUP (41)

All of GROUP (42)

All of GROUP (43)

GROUP (44)

44.07 Social Work/Youth Services

All of GROUP (45)

All of GROUP (49)

GROUP (51)

51.01 Chiropractic

51.02 Communication Disorders Sciences & Services

51.04 Dentistry, Advanced/Graduate Dentistry, Oral Sciences, Dental Technology

51.06 Dental Support Services/Assistant

51.07 Health and Medical Administrative Services

51.08 Medical Support Services/Assistant

51.09 Allied Health Diagnostic, Intervention, and Treatment Professions

51.10 Clinical/Medical Laboratory Science and Allied Professions

51.12 Medicine, Medical Research, including all specialties and fields

51.15 Mental and Social Health Services

51.17 Optometry

51.19 Osteopathic Medicine/Osteopathy

51.22 Public Health

51.23 Rehabilitation and Therapeutic Professions

51.24 Veterinary Medicine

51.25 Veterinary Biomedical and Clinical Sciences

51.27 Medical Illustration and Informatics & Medical Photography

51.31 Dietetics and Clinical Nutrition

51.33 Alternative Medicine

GROUP (52)

52.04 Business Operations Support and Assistant Services

52.06 Business/Managerial Economics

52.10 Human Resources Management and Services

52.11 International Business/Trade/Commerce

52.13 Management Sciences and Quantitative Methods

52.14 Marketing/Marketing Management

52.17 Insurance

52.20 Construction Management

All of GROUP (54)

All of GROUP (60)

Romania

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

GROUP (31)

31.01 Parks, Recreation and Leisure Studies

31.05 Health and Physical Education/Fitness

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Rwanda

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (31)

All of GROUP (38)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Saudi Arabia

All of GROUP (01)

All of GROUP (03)

All of GROUP (04)

All of GROUP (05)

All of GROUP (09)

All of GROUP (10)

All of GROUP (11)

All of GROUP (13)

GROUP (14)

14.01 Engineering, General

14.02 Aerospace, Aeronautical and Astronautical Engineering

14.03 Agricultural/Biological Engineering and Bioengineering

14.05 Biomedical/Medical Engineering

14.07 Chemical Engineering

14.09 Computer Hardware and Software Engineering

14.10 Electrical, Electronics and Communications Engineering

14.19 Mechanical Engineering

14.21 Mining and Mineral Engineering

14.25 Energy Engineering & Tech.

14.33 Construction Engineering

14.35 Industrial/Manufacturing Engineering

14.38 Surveying Engineering

14.39 Geological/Geophysical Engineering

All of GROUP (22)

All of GROUP (23)

GROUP (26)

26.01 Biology

26.04 Anatomical Sciences

26.05 Microbiological Sciences and Immunology

26.08 Genetics

All of GROUP (41)

All of GROUP (43)

GROUP (44)

44.04 Public Administration

All of GROUP (45)

All of GROUP (46)

All of GROUP (47)

All of GROUP (49)

All of GROUP (51)

GROUP (52)

52.02 Business Administration, Management and Operations

52.03 Accounting and Related Services

52.04 Business Operations Support and Assistant Services

52.06 Business/Managerial Economics

52.08 Finance, Banking and Financial Management Services

52.10 Human Resources Management and Services

52.11 International Business/Trade/Commerce

52.12 Management Information Systems and Services

52.13 Management Sciences and Quantitative Methods

52.14 Marketing/Marketing Management

52.20 Construction Management

GROUP (60)

60.01 Dental Residency Programs

60.02 Medical Residency Programs

Senegal

All of GROUP (01)

All of GROUP (03)

All of GROUP (04)

All of GROUP (09)

All of GROUP (10)

All of GROUP (11)

All of GROUP (13)

All of GROUP (14)

All of GROUP (16)

All of GROUP (22)

All of GROUP (23)

All of GROUP (24)

All of GROUP (25)

All of GROUP (26)

All of GROUP (27)

All of GROUP (38)

All of GROUP (40)

All of GROUP (41)

All of GROUP (42)

All of GROUP (43)

All of GROUP (44)

All of GROUP (45)

All of GROUP (47)

All of GROUP (48)

All of GROUP (49)

All of GROUP (50)

All of GROUP (51)

All of GROUP (52)

All of GROUP (54)

All of GROUP (60)

South Africa

GROUP (01)

01.10 Food Science

01.11 Plant Sciences

01.12 Soil Science and Agronomy

GROUP (03)

03.02 Natural Resources Management and Policy

All of GROUP (04)

GROUP (09)

09.01 Communication and Media Studies

09.04 Journalism

09.07 Radio, Television, and Digital Communication

GROUP (10)

10.01 Communications Technology/Technicians

10.02 Audiovisual Communications Technologies/Technicians

GROUP (11)

11.01 Computer and Information Sciences, General

11.02 Computer Programming

11.05 Computer Systems Analysis

11.07 Computer Science

11.10 Computer/Information Technology Administration and Management

GROUP (13)

13.01 Education, General

13.02 Bilingual, Multilingual, and Multicultural

GROUP (14)

14.01 Engineering, General

14.02 Aerospace, Aeronautical and Astronautical Engineering

14.03 Agricultural/Biological Engineering and Bioengineering

14.05 Biomedical/Medical Engineering

14.07 Chemical Engineering

14.08 Civil Engineering

14.10 Electrical, Electronics and Communications Engineering

14.14 Environmental Engineering

14.19 Mechanical Engineering

14.20 Metallurgical Engineering

14.21 Mining and Mineral Engineering

14.22 Naval Architecture and Marine Engineering

14.23 Nuclear Engineering

14.33 Construction Engineering

14.35 Industrial/Manufacturing Engineering

14.38 Surveying Engineering

14.39 Geological/Geophysical Engineering

All of GROUP (22)

GROUP (26)

26.01 Biology

26.03 Botany/Plant Biology

26.05 Microbiological Sciences and Immunology

26.07 Zoology/Animal Biology

All of GROUP (27)

GROUP (40)

40.01 Physical Sciences

40.02 Astronomy; Astrophysics; Planetary Astronomy and Science; and Space Technology

40.05 Chemistry

40.06 Geological and Earth Sciences/Geosciences

40.08 Physics

All of GROUP (43)

GROUP (44)

44.04 Public Administration

All of GROUP (46)

All of GROUP (47)

All of GROUP (48)

All of GROUP (49)

GROUP (51)

51.07 Health and Medical Administrative Services

51.08 Medical Support Services/Assistant

51.09 Allied Health Diagnostic, Intervention, and Treatment Professions

51.10 Clinical/Medical Laboratory Science and Allied Professions

51.12 Medicine, Medical Research, including all specialties and fields

51.16 Nursing

51.20 Pharmacy

51.22 Public Health

51.23 Rehabilitation and Therapeutic Professions

South Korea

All of GROUP (14)

All of GROUP (26)

All of GROUP (27)

All of GROUP (40)

All of GROUP (41)

All of GROUP (43)

All of GROUP (44)

All of GROUP (47)

All of GROUP (48)

Sri Lanka

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Swaziland

All of GROUP (01)

All of GROUP (03)

All of GROUP (04)

GROUP (09)

09.01 Communication and Media Studies

09.04 Journalism—

09.07 Radio, Television, and Digital Communication

09.09 Public Relations, Advertising, and Applied Communication

All of GROUP (10)

All of GROUP (11)

All of GROUP (13)

All of GROUP (14)

GROUP (19)

19.09 Apparel and Textiles

All of GROUP (22)

All of GROUP (26)

All of GROUP (27)

All of GROUP (31)

All of GROUP (40)

All of GROUP (41)

All of GROUP (42)

All of GROUP (43)

All of GROUP (44)

All of GROUP (45)

All of GROUP (46)

All of GROUP (47)

All of GROUP (48)

GROUP (49)

49.01 Air Transportation

49.02 Ground Transportation

GROUP (50)

50.04 Design and Applied Arts

All of GROUP (51)

All of GROUP (52)

All of GROUP (60)

Tajikistan

All of GROUP (01)

All of GROUP (04)

All of GROUP (10)

All of GROUP (11)

All of GROUP (14)

Tanzania

All of GROUP (01)

All of GROUP (03)

GROUP (04)

04.02 Architecture

GROUP (09)

09.01 Communication and Media Studies

09.04 Journalism—

All of GROUP (11)

All of GROUP (13)

All of GROUP (14)

All of GROUP (16)

All of GROUP (25)

All of GROUP (26)

All of GROUP (27)

GROUP (31)

31.01 Parks, Recreation and Leisure Studies

All of GROUP (40)

All of GROUP (41)

All of GROUP (42)

All of GROUP (43)

All of GROUP (44)

All of GROUP (45)

All of GROUP (46)

All of GROUP (47)

All of GROUP (51)

GROUP (52)

52.02 Business Administration, Management and Operations

52.03 Accounting and Related Services

52.08 Finance, Banking and Financial Management Services

52.09 Hospitality Administration/Management

52.10 Human Resources Management and Services

52.11 International Business/Trade/Commerce

52.20 Construction Management

All of GROUP (60)

Thailand

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Togo

All of GROUP (01)

All of GROUP (03)

All of GROUP (04)

All of GROUP (05)

All of GROUP (09)

All of GROUP (10)

All of GROUP (11)

GROUP (12)

12.05 Cooking, Culinary Arts and Related Services

All of GROUP (13)

All of GROUP (14)

All of GROUP (16)

All of GROUP (19)

All of GROUP (22)

All of GROUP (23)

All of GROUP (24)

All of GROUP (25)

All of GROUP (26)

All of GROUP (27)

All of GROUP (31)

All of GROUP (39)

All of GROUP (40)

All of GROUP (41)

All of GROUP (43)

All of GROUP (44)

All of GROUP (45)

All of GROUP (51)

All of GROUP (52)

All of GROUP (60)

Tonga

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Trinidad and Tobago

All of GROUP (01)

GROUP (03)

03.01 Natural Resources Conservation and Research & Environmental/Wildlife/Wildlands Science/Studies

03.02 Natural Resources Management and Policy

All of GROUP (04)

All of GROUP (05)

All of GROUP (09)

All of GROUP (10)

All of GROUP (11)

GROUP (13)

13.03 Curriculum and Instruction

13.06 Educational Assessment, Evaluation, and Research

13.09 Social and Philosophical Foundations of Education

13.10 Special Education and Teaching

13.11 Student Counseling and Personnel Services

GROUP (14)

14.02 Aerospace, Aeronautical and Astronautical Engineering

14.03 Agricultural/Biological Engineering and Bioengineering

14.05 Biomedical/Medical Engineering

14.14 Environmental Engineering

14.18 Materials Engineering

14.20 Metallurgical Engineering

14.21 Mining and Mineral Engineering

14.22 Naval Architecture and Marine Engineering

14.23 Nuclear Engineering

14.24 Ocean Engineering

All of GROUP (19)

All of GROUP (22)

All of GROUP (25)

GROUP (26)

26.05 Microbiological Sciences and Immunology

26.08 Genetics

26.11 Biomathematics and Bioinformatics

26.12 Biotechnology

26.13 Ecology, Population Biology

All of GROUP (27)

GROUP (31)

31.01 Parks, Recreation and Leisure Studies

GROUP (40)

40.04 Atmospheric Sciences and Meteorology

40.06 Geological and Earth Sciences/Geosciences

All of GROUP (43)

All of GROUP (45)

All of GROUP (49)

All of GROUP (50)

All of GROUP (51)

GROUP (52)

52.11 International Business/Trade/Commerce

52.15 Real Estate

52.16 Taxation

52.17 Insurance

All of GROUP (60)

Turkey

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

GROUP (31)

31.01 Parks, Recreation and Leisure Studies

31.05 Health and Physical Education/Fitness

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

United Arab Emirates

GROUP (01)

01.00 Agriculture, General

01.01 Agricultural Business and Management

01.09 Animal Sciences

01.10 Food Science

01.12 Soil Science and Agronomy

GROUP (03)

03.03 Fishing and Fisheries Sciences and Management

GROUP (04)

04.02 Architecture

GROUP (09)

09.01 Communication and Media Studies

09.04 Journalism—

09.07 Radio, Television, and Digital Communication

All of GROUP (10)

GROUP (11)

11.01 Computer and Information Sciences, General

11.02 Computer Programming

11.03 Data Processing

11.04 Information Science/Studies

11.07 Computer Science

GROUP (13)

13.01 Education, General

13.06 Educational Assessment, Evaluation, and Research

13.10 Special Education and Teaching

13.11 Student Counseling and Personnel Services

13.12 Teacher Education and Professional Development, Specific Levels and Methods

13.13 Teacher Education and Professional Development, Specific Subject Areas

GROUP (14)

14.01 Engineering, General

14.02 Aerospace, Aeronautical and Astronautical Engineering

14.05 Biomedical/Medical Engineering

14.07 Chemical Engineering

14.08 Civil Engineering

14.09 Computer Hardware and Software Engineering

14.10 Electrical, Electronics and Communications Engineering

14.14 Environmental Engineering

14.18 Materials Engineering

14.19 Mechanical Engineering

14.22 Naval Architecture and Marine Engineering

14.24 Ocean Engineering

14.25 Energy Engineering & Tech.

14.33 Construction Engineering

14.35 Industrial/Manufacturing Engineering

14.38 Surveying Engineering

All of GROUP (16)

All of GROUP (22)

All of GROUP (24)

All of GROUP (25)

GROUP (26)

26.01 Biology

26.03 Botany/Plant Biology

26.07 Zoology/Animal Biology

26.08 Genetics

26.12 Biotechnology

26.13 Ecology, Population Biology

All of GROUP (27)

GROUP (31)

31.01 Parks, Recreation and Leisure Studies

31.05 Health and Physical Education/Fitness

All of GROUP (38)

GROUP (40)

40.01 Physical Sciences

40.02 Astronomy; Astrophysics; Planetary Astronomy and Science; and Space Technology

40.05 Chemistry

40.06 Geological and Earth Sciences/Geosciences

40.08 Physics

All of GROUP (41)

All of GROUP (42)

All of GROUP (43)

All of GROUP (44)

All of GROUP (45)

All of GROUP (48)

All of GROUP (49)

GROUP (50)

50.01 Visual and Performing Arts

GROUP (51)

51.01 Chiropractic

51.04 Dentistry, Advanced/Graduate Dentistry, Oral Sciences, Dental Technology

51.06 Dental Support Services/Assistant

51.07 Health and Medical Administrative Services

51.10 Clinical/Medical Laboratory Science and Allied Professions

51.12 Medicine, Medical Research, including all specialties and fields

51.16 Nursing

51.17 Optometry

51.19 Osteopathic Medicine/Osteopathy

51.20 Pharmacy

51.22 Public Health

51.23 Rehabilitation and Therapeutic Professions

51.24 Veterinary Medicine

51.25 Veterinary Biomedical and Clinical Sciences

51.27 Medical Illustration and Informatics & Medical Photography

GROUP (52)

52.02 Business Administration, Management and Operations

52.03 Accounting and Related Services

52.08 Finance, Banking and Financial Management Services

52.09 Hospitality Administration/Management

52.10 Human Resources Management and Services

52.11 International Business/Trade/Commerce

52.12 Management Information Systems and Services

52.13 Management Sciences and Quantitative Methods

52.20 Construction Management

All of GROUP (54)

All of GROUP (60)

Uruguay

GROUP (01)

01.00 Agriculture, General

01.09 Animal Sciences

01.10 Food Science

01.12 Soil Science and Agronomy

GROUP (03)

03.01 Natural Resources Conservation and Research & Environmental/Wildlife/Wildlands Science/Studies

03.03 Fishing and Fisheries Sciences and Management

GROUP (09)

09.01 Communication and Media Studies

09.04 Journalism

GROUP (10)

10.01 Communications Technology/Technicians

GROUP (11)

11.01 Computer and Information Sciences, General

11.02 Computer Programming

11.03 Data Processing

11.04 Information Science/Studies

11.05 Computer Systems Analysis

11.07 Computer Science

GROUP (13)

13.06 Educational Assessment, Evaluation, and Research

13.10 Special Education and Teaching

13.13 Teacher Education and Professional Development, Specific Subject Areas

GROUP (14)

14.02 Aerospace, Aeronautical and Astronautical Engineering

14.05 Biomedical/Medical Engineering

14.07 Chemical Engineering

14.09 Computer Hardware and Software Engineering

14.10 Electrical, Electronics and Communications Engineering

14.14 Environmental Engineering

14.18 Materials Engineering

14.22 Naval Architecture and Marine Engineering

14.25 Energy Engineering & Tech.

14.35 Industrial/Manufacturing Engineering

All of GROUP (16)

GROUP (26)

26.07 Zoology/Animal Biology

26.08 Genetics

26.13 Ecology, Population Biology

GROUP (31)

31.01 Parks, Recreation and Leisure Studies

31.05 Health and Physical Education/Fitness

All of GROUP (38)

GROUP (40)

40.02 Astronomy; Astrophysics; Planetary Astronomy and Science; and Space Technology

40.04 Atmospheric Sciences and Meteorology

All of GROUP (43)

All of GROUP (44)

GROUP (45)

45.02 Anthropology

45.03 Archeology

45.05 Demography and Population Studies

45.06 Economics

45.07 Geography and Cartography

45.10 Political Science and Government

All of GROUP (46)

GROUP (49)

49.01 Air Transportation

49.03 Marine Transportation

GROUP (51)

51.07 Health and Medical Administrative Services

51.09 Allied Health Diagnostic, Intervention, and Treatment Professions

51.10 Clinical/Medical Laboratory Science and Allied Professions

51.12 Medicine, Medical Research, including all specialties and fields

51.22 Public Health

51.24 Veterinary Medicine

51.25 Veterinary Biomedical and Clinical Sciences

51.27 Medical Illustration and Informatics & Medical Photography

GROUP (52)

52.02 Business Administration, Management and Operations

52.03 Accounting and Related Services

52.04 Business Operations Support and Assistant Services

52.08 Finance, Banking and Financial Management Services

52.11 International Business/Trade/Commerce

All of GROUP (54)

Venezuela

All of GROUP (01)

All of GROUP (03)

GROUP (04)

04.03 City/Urban, Community and Regional Planning; Architectural Urban Design and Planning

All of GROUP (05)

GROUP (09)

09.01 Communication and Media Studies

09.07 Radio, Television, and Digital Communication

All of GROUP (10)

All of GROUP (11)

All of GROUP (13)

All of GROUP (14)

All of GROUP (16)

GROUP (19)

19.01 Family and Consumer Sciences/Human Sciences, General

19.05 Foods, Nutrition, and Related Services

All of GROUP (23)

All of GROUP (24)

All of GROUP (25)

All of GROUP (26)

All of GROUP (27)

GROUP (31)

31.01 Parks, Recreation and Leisure Studies

31.05 Health and Physical Education/Fitness

All of GROUP (38)

All of GROUP (40)

All of GROUP (41)

All of GROUP (42)

All of GROUP (44)

All of GROUP (45)

All of GROUP (46)

All of GROUP (47)

All of GROUP (48)

All of GROUP (49)

All of GROUP (50)

All of GROUP (51)

All of GROUP (52)

All of GROUP (54)

All of GROUP (60)

Yemen

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Zambia

All of GROUP (01)

All of GROUP (03)

All of GROUP (04)

All of GROUP (05)

All of GROUP (09)

All of GROUP (10)

All of GROUP (11)

All of GROUP (12)

All of GROUP (13)

All of GROUP (14)

All of GROUP (16)

All of GROUP (19)

All of GROUP (22)

All of GROUP (23)

All of GROUP (24)

All of GROUP (25)

All of GROUP (26)

All of GROUP (27)

All of GROUP (31)

All of GROUP (38)

All of GROUP (39)

All of GROUP (40)

All of GROUP (41)

All of GROUP (42)

All of GROUP (43)

All of GROUP (44)

All of GROUP (45)

All of GROUP (46)

All of GROUP (47)

All of GROUP (48)

All of GROUP (49)

All of GROUP (50)

All of GROUP (51)

All of GROUP (52)

All of GROUP (54)

All of GROUP (60)

Dated: April 14, 2009.
Janice L. Jacobs,
Assistant Secretary for Consular Affairs, Department of State.

[FR Doc. E9-9657 Filed 4-29-09; 8:45 am]

BILLING CODE 4710-06-P